DEPARTMENT OF TRANSPORTATION

Federal Aviation Administration

Notice of Availability of Written Reevaluation and Record of Decision; Centerfield Taxiway; Logan International Airport; Boston, MA

AGENCY: Federal Aviation Administration, DOT.

ACTION: Notice.

SUMMARY: The Federal Aviation Administration (FAA) announces availability of a Written Reevaluation and Record of Decision (ROD) for a Centerfield Taxiway at Logan International Airport, Boston, Massachusetts. The ROD follows the issuance of a Final Environmental Impact Statement for the Airside Improvement Planning Project, issued in June 2002, and subsequent Record of Decision (August 2002) that approved several airport development projects but deferred a decision on the Centerfield Taxiway. The FAA is now documenting its decision to approve the Centerfield Taxiway and take action toward making federal funds available for its construction. FAA's Record of Decision may be accessed on FAA's public Web site: www.faa.gov/airports_airtraffic.

DATES: Effective Date: The effective date of the FAA's Record of Decision on the Centerfield Taxiway at Logan International Airport is April 20, 2007.

FOR FURTHER INFORMATION CONTACT: For additional information contact John C. Silva, Federal Aviation Administration, New England Region, Airports Division, ANE-610, 12 New England Executive Park, Burlington, Massachusetts 01803. Telephone 781-238-7602.

Issued in Burlington, Massachusetts on May 3, 2007.
Michel Hovan,
Acting Manager, Airports Division.

[FR Doc. 07-2376 Filed 5-14-07; 8:45 am]

BILLING CODE 4910-13-M